DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains in the possession of the American Museum of Natural History, New York, NY. The human remains were collected from the Mescalero Indian Reservation, Otero County, NM.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by American Museum of Natural History professional staff in consultation with representatives of the Mescalero Apache Tribe of the Mescalero Reservation, New Mexico.

In 1900, human remains representing a minimum of one individual were collected from the Mescalero Indian Reservation, Otero County, NM, by Dr. McLutterell, identified in the Museum's catalog as “the agent.” The American Museum of Natural History obtained the remains as a gift from Dr. Ales Hrdlicka. No known individual was identified. No associated funerary objects are present.

This individual has been identified as Native American based on the Museum's catalog identification of the remains as Mescalero Apache. The human remains originate from the Mescalero Reservation. The presence of desiccated soft tissue indicates that the human remains may be of relatively recent age.

Although the lands from which the human remains originate are currently under the jurisdiction of the U.S. Department of the Interior, Bureau of Indian Affairs, the American Museum of Natural History has control of the human remains since their removal from tribal land predates the permit requirements established by the Antiquities Act of 1906.

Officials of the American Museum of Natural History have determined that, pursuant to 25 U.S.C. 3001 (9¯10), the human remains described above represent the physical remains of one individual of Native American ancestry. Officials of the American Museum of Natural History also have determined that, pursuant to 25 U.S.C. 3001 (2), there is a relationship of shared group identity that can be reasonably traced between the Native American human remains and the Mescalero Apache Tribe of the Mescalero Reservation, New Mexico.

Representatives of any other Indian tribe that believes itself to be culturally affiliated with the human remains should contact Nell Murphy, Director of Cultural Resources, American Museum of Natural History, Central Park West at 79th Street, New York, NY 10024¯5192, telephone (212) 769¯5837, before May 2, 2005. Repatriation of the human remains to the Mescalero Apache Tribe of the Mescalero Reservation, New Mexico may proceed after that date if no additional claimants come forward.

The American Museum of Natural History is responsible for notifying the Mescalero Apache Tribe of the Mescalero Reservation, New Mexico that this notice has been published.

Dated: February 11, 2005.
Sherry Hutt,
Manager, National NAGPRA Program.

[FR Doc. 05-6461 Filed 3-31-05; 8:45 am]

BILLING CODE 4312-50-S